DEPARTMENT OF LABOR

Office of Federal Contract Compliance Programs

Affirmative Action Program Verification Interface; New Information Collection Requirements; Comment Request

AGENCY: Office of Federal Contract Compliance Programs, Labor.

ACTION: Notice.

SUMMARY: The Department of Labor (DOL), as part of its continuing effort to reduce paperwork and respondent burden, conducts a pre-clearance consultation program to provide the general public and federal agencies with an opportunity to comment on proposed and/or continuing collections of information in accordance with the Paperwork Reduction Act of 1995 (PRA). The program helps to ensure that requested data can be provided in the desired format, reporting burden (time and financial resources) is minimized, collection instruments are clearly understood, and the impact of collection requirements on respondents can be properly assessed. Currently, the Office of Federal Contract Compliance Programs (OFCCP) is soliciting comments concerning its proposal to obtain approval from the Office of Management and Budget (OMB) to implement the Affirmative Action Program Verification Interface (AAP-VI). A copy of the proposed information collection request can be obtained by contacting the office listed below in the FOR FURTHER INFORMATION CONTACT section of this Notice or by accessing it at https://www.regulations.gov/.

DATES: Written comments must be submitted to the office listed in the addresses section below on or before November 13, 2020.

ADDRESSES: You may submit comments by any of the following methods:

Electronic comments: The federal e-Rulemaking portal at https://www.regulations.gov/. Follow the instructions found on that website for submitting comments.

Mail, Hand Delivery, Courier: Addressed to Tina Williams, Director, Division of Policy and Program Development, Office of Federal Contract Compliance Programs, 200 Constitution Avenue NW, Room C-3325, Washington, DC 20210.

Instructions: Please submit one copy of your comments by only one method. For faster submission, we encourage commenters to transmit their comment electronically via the https://www.regulations.gov/ website. Comments that are mailed to the address provided above must be postmarked before the close of the comment period. All submissions must include OFCCP's name for identification. Comments submitted in response to the notice, including any personal information provided, become a matter of public record and will be posted on https://www.regulations.gov/. Comments will also be summarized and/or included in the request for OMB approval of the information collection request.

FOR FURTHER INFORMATION CONTACT: Tina Williams, Director, Division of Policy and Program Development, Office of Federal Contract Compliance Programs, Room C-3325, 200 Constitution Avenue NW, Washington, DC 20210. Telephone: (202) 693-0103 (voice) or (202) 693-1337 (TTY) (these are not toll-free numbers). Copies of this notice may be obtained in alternative formats (large print, braille, audio recording) upon request by calling the numbers listed above.

SUPPLEMENTARY INFORMATION:

I. Background: OFCCP administers and enforces the three equal employment opportunity laws listed below.

• Executive Order 11246, as amended (E.O. 11246)

• Section 503 of the Rehabilitation Act of 1973, as amended (Section 503)

• Vietnam Era Veterans' Readjustment Assistance Act of 1974, as amended (VEVRAA)

These authorities prohibit employment discrimination by covered federal contractors and subcontractors and require that they provide equal employment opportunities regardless of race, color, religion, sex, sexual orientation, gender identity, national origin, disability, or status as a protected veteran. Additionally, federal contractors and subcontractors are prohibited from discriminating against applicants and employees for inquiring about, discussing, or disclosing information about their pay or the pay of their co-workers, subject to certain limitations. E.O. 11246's basic coverage applies to federal contractors and subcontractors and to federally assisted construction contractors holding a government contract in excess of $10,000, or government contracts that have, or can reasonably be expected to have, an aggregate total value exceeding $10,000 in a 12-month period. E.O. 11246 also applies to government bills of lading, depositories of federal funds in any amount, and to financial institutions that are issuing and paying agents for U.S. Savings Bonds. E.O. 11246's Affirmative Action Program (AAP) requirements apply to federal contractors and subcontractors with 50 or more employees and a contract of $50,000 or more. Section 503 prohibits employment discrimination against applicants and employees because of physical or mental disability and requires affirmative action to ensure that persons are treated without regard to disability. Section 503 applies to federal contractors and subcontractors with contracts in excess of $15,000, and its AAP coverage applies to federal contractors and subcontractors with 50 or more employees and a contract of $50,000 or more. VEVRAA prohibits employment discrimination against protected veterans and requires affirmative action to ensure that persons are treated without regard to their status as a protected veteran. VEVRAA applies to federal contractors and subcontractors with contracts of $150,000 or more, and its AAP coverage applies to federal contractors and subcontractors with 50 or more employees and a contract of $150,000 or more. This information collection request (ICR) seeks authorization for an annual Affirmative Action Program online certification process for federal contractors and for a secure method for federal contractors to submit AAPs electronically to OFCCP when they are scheduled for a compliance evaluation.

II. Review Focus: OFCCP is particularly interested in comments which:

• Evaluate the proposed frequency and level of information collection;

• Evaluate whether the proposed collection of information is necessary for the enforcement and compliance assistance functions of the agency that support the agency's compliance mission, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

III. Current Actions: OFCCP seeks approval of this new information collection in order to carry out its responsibilities to enforce the nondiscrimination and affirmative action provisions of the three legal authorities it administers.

Type of Review: New Collection.

Agency: Office of Federal Contract Compliance Programs.

Title: Affirmative Action Program Verification Interface.

OMB Control Number: 1250-[NEW].

Agency Number: None.

Affected Public: Business or other for-profit entities.

Total Respondents: 116,898.

Total Annual Respondents: 116,898.

Average Time per Response: 0.3 hours for account creation. 0.2 hours for AAP Submission. 0.1 hours for SAM Cert Question.

Estimated Total Burden Hours: 47,759 in the first year. 13,041 in subsequent years.

Frequency: Annual.

Total Other Burden Costs: $0.

Signed in Washington, DC, this September 8, 2020.
Harvey D. Fort,
Deputy Director, Division of Policy and Program Development, Office of Federal Contract Compliance Programs.

[FR Doc. 2020-20105 Filed 9-11-20; 8:45 am]

BILLING CODE 4510-CM-P